FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted—Early Termination
ET date | TRANS No. | ET req. status | Party name
04-MAY-09 | 20090369 | G | Reyes Holdings, LLC
|  | G | Crest Beverage, LLC.
|  | G | Crest Beverage, LLC.
| 20090370 | G | Steven S. Sourapas.
|  | G | Crest Beverage, LLC.
|  | G | Crest Beverage, LLC.
| 20090371 | G | Michael S. Sourapas.
|  | G | Crest Beverage, LLC.
|  | G | Crest Beverage Co.
| 20090399 | G | Holly Corporation.
|  | G | Sunoco, Inc.
|  | G | Sunoco, Inc.
05-MAY-09 | 20090428 | G | The Veritas Capital Fund lll, L.P.
|  | G | Marsh & McLennan Companies, Inc.
|  | G | Kroll Government Services, Inc.
06-MAY-09 | 20090392 | G | Cisco Systems, Inc.
|  | G | Tidal Software, Inc.
|  | G | Tidal Software, Inc.
08-MAY-09 | 20090387 | G | Beckman Coulter, Inc.
|  | G | Olympus Corporation.
|  | G | Olympus Germany Newco (to-be-formed).
|  | G | Mishima Olympus Co., Ltd.
|  | G | Olympus Japan Newco (to-be-formed).
|  | G | Olympus Medical Engineering Co., Ltd.
|  | G | Olympus France Newco (to-be-formed).
| 20090388 | G | Olympus Corporation.
|  | G | Beckman Coulter, Inc.
|  | G | Beckman Coulter, Inc.
| 20090419 | G | Joseph V. Topper, Jr.
|  | G | BP p.l.c.
|  | G | BP Products North America Inc.
| 20090436 | G | Foster Farms Delaware, Inc.
|  | G | Lonnie A. Pilgrim.
|  | G | Pilgrim's Pride Corp.
| 20090437 | G | James A. Haslam III.
|  | G | Rooney Enterprises, Inc.
|  | G | Rooney Enterprises, Inc.
| 20090438 | G | CRT Investments, LLC.
|  | G | Cannella Response Television, Inc.
|  | G | Cannella Newco LLC.
11-MAY-09 | 20090389 | G | Navistar International Corporation.
|  | G | Ford Motor Company.
|  | G | Blue Diamond Parts, LLC.
13-MAY-09 | 20090439 | G | Harris Corporation.
|  | G | Tyco Electronics Ltd.
|  | G | Tyco Electronics Ltd.
14-MAY-09 | 20090451 | G | UAW Retiree Medical Benefits Trust.
|  | G | Chrysler LLC.
|  | G | Chrysler LLC.
15-MAY-09 | 20090434 | G | William Moms Agency, LLC.
|  | G | William Morris Endeavor Entertainment, LLC.
|  | G | William Morris Endeavor Entertainment, LLC.
| 20090453 | G | Atlas America, Inc.
|  | G | Atlas Energy Resources, LLC.
|  | G | Atlas Energy Resources, LLC.
19-MAY-09 | 20090450 | G | Hasbro, Inc.
|  | G | Discovery Communications, Inc.
|  | G | DHJV Company LLC.
21-MAY-09 | 20090443 | G | William H. Gates III.
|  | G | Grupo Televisa S.A.B.
|  | G | Grupo Televisa S.A.B.
| 20090458 | G | AT&T Inc.
|  | G | Sprint Nextel Corporation.
|  | G | WirelessCo, L.P.
22-MAY-09 | 20090464 | G | Energizer Holdings, Inc.
|  | G | Appointive Distributing Trust A a/c Samuel C. Johnson 1988.
|  | G | S.C. Johnson & Son, Inc.
26-MAY-09 | 20090470 | G | Mahindra & Mahindra Limited.
|  | G | Satyam Computer Services Limited.
|  | G | Satyam Computer Services Limited.
27-MAY-09 | 20090471 | G | Space Coast Credit Union.
|  | G | Eastern Financial Florida Credit Union.
|  | G | Eastern Financial Florida Credit Union.
29-MAY-09 | 20090442 | G | John C. Malone.
|  | G | Liberty Global, Inc.
|  | G | Liberty Global, Inc.
01-JUN-09 | 20090454 | G | GlaxoSmithKline plc.
|  | G | Stiefel Laboratories, Inc.
|  | G | Stiefel Laboratories, Inc.
| 20090473 | G | Mr. James Laurence Balsillie.
|  | G | Mr. Jerry Moyes.
|  | G | Coyotes Hockey, LLC.
| 20090480 | G | Green Plains Renewable Energy, Inc.
|  | G | RBF Acquisition II, LLC.
|  | G | RBF Acquisition II, LLC.
| 20090482 | G | Lime Rock Partners V, LP.
|  | G | Allis-Chalmers Energy Inc.
|  | G | Allis-Chalmers Energy Inc.
| 20090488 | G | Aurora Resurgence Fund (C) L.P.
|  | G | Norwood Promotional Products Holdings, Inc.
|  | G | Norwood Promotional Products, Inc.
02-JUN-09 | 20090465 | G | United Technologies Corporation.
|  | G | Watsco, Inc.
|  | G | Watsco, Inc.
| 20090466 | G | Watsco, Inc.
|  | G | United Technologies Corporation.
|  | G | Carrier Sales and Distribution, LLC.
05-JUN-09 | 20090489 | G | TC PipeLines, LP.
|  | G | TransCanada Corporation.
|  | G | North Baja Pipeline, LLC.
| 20090497 | G | BioMarin Pharmaceutical Inc.
|  | G | Medicis Pharmaceutical Corporation.
|  | G | Medicis Pediatrics, Inc.
| 20090500 | G | Windstream Corporation.
|  | G | D&E Communications, Inc.
|  | G | D&E Communications, Inc.

FOR FURTHER INFORMATION CONTACT: Sandra M. Peay, Contact Representative, or Renee Hallman, Contact Representative. Federal Trade Commission, Premerger Notification Office, Bureau of Competition, Room H-303, Washington, DC 20580, (202) 326-3100.

By direction of the Commission.
Donald S. Clark,
Secretary.

[FR Doc. E9-14919 Filed 6-24-09; 8:45 am]

BILLING CODE 6750-01-M